SECURITIES AND EXCHANGE COMMISSION

[File No. 500-1]

Pro-Tech Industries, Inc., Vida Life International Ltd., Vitavea, Inc., Western Power & Equipment Corp., and Westmont Resources, Inc.; Order of Suspension of Trading

May 23, 2014.

It appears to the Securities and Exchange Commission that there is a lack of current and accurate information concerning the securities of Pro-Tech Industries, Inc. because it has not filed any periodic reports since the period ended June 30, 2011.

It appears to the Securities and Exchange Commission that there is a lack of current and accurate information concerning the securities of Vida Life International Ltd. because it has not filed any periodic reports since the period ended September 30, 2009.

It appears to the Securities and Exchange Commission that there is a lack of current and accurate information concerning the securities of Vitavea, Inc. because it has not filed any periodic reports since the period ended April 30, 2007.

It appears to the Securities and Exchange Commission that there is a lack of current and accurate information concerning the securities of Western Power & Equipment Corp. because it has not filed any periodic reports since the period ended April 30, 3008.

It appears to the Securities and Exchange Commission that there is a lack of current and accurate information concerning the securities of Westmont Resources Inc. because it has not filed any periodic reports since the period ended February 28, 2011.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on May 23, 2014, through 11:59 p.m. EDT on June 6, 2014.

By the Commission.
Jill M. Peterson,
Assistant Secretary.

[FR Doc. 2014-12433 Filed 5-23-14; 4:15 pm]

BILLING CODE 8011-01-P